DEPARTMENT OF ENERGY

Federal Energy Regulatory Commission

Combined Notice of Filings #1

Take notice that the Commission received the following electric rate filings:

Docket Numbers: ER19-13-000; ER19-1816-000; ER20-2265-000.

Applicants: Pacific Gas and Electric Company, Pacific Gas and Electric Company, Pacific Gas and Electric Company.

Description: Pacific Gas and Electric Company submits Annual Formula Transmission Rate Update Filing for Rate Year 2023.

Filed Date: 12/1/22.

Accession Number: 20221201-5229

Comment Date: 5 p.m. ET 12/28/22.

Docket Numbers: ER20-2878-000; ER20-2878-013.

Applicants: Pacific Gas and Electric Company.

Description: Informational Filing for a Wholesale Distribution Tariff number 3 for rate year 2023 of Pacific Gas Company.

Filed Date: 12/1/22.

Accession Number: 20221201-5316.

Comment Date: 5 p.m. ET 12/28/22.

Docket Numbers: ER23-334-001.

Applicants: Southwest Power Pool, Inc.

Description: Tariff Amendment: 1875R5 Kansas Electric Power Cooperative, Inc. NITSA and NOA to be effective 1/1/2023.

Filed Date: 12/7/22.

Accession Number: 20221207-5102.

Comment Date: 5 p.m. ET 12/28/22.

Docket Numbers: ER23-567-000.

Applicants: Southwest Power Pool, Inc.

Description: § 205(d) Rate Filing: Revisions to Add the Transmission Owner Project Evaluation Process to be effective 2/6/2023.

Filed Date: 12/7/22.

Accession Number: 20221207-5052.

Comment Date: 5 p.m. ET 12/28/22.

Docket Numbers: ER23-568-000.

Applicants: Big Cypress Solar, LLC.

Description: Baseline eTariff Filing: Big Cypress Solar, LLC Application for Market-Based Rate Authority to be effective 2/6/2023.

Filed Date: 12/7/22.

Accession Number: 20221207-5064.

Comment Date: 5 p.m. ET 12/28/22.

Docket Numbers: ER23-569-000.

Applicants: Southwest Power Pool, Inc.

Description: § 205(d) Rate Filing: Revisions to Clarify Fast-Start Pricing Mitigation to be effective 2/6/2023.

Filed Date: 12/7/22.

Accession Number: 20221207-5065.

Comment Date: 5 p.m. ET 12/28/22.

Docket Numbers: ER23-570-000.

Applicants: Southern California Edison Company.

Description: § 205(d) Rate Filing: Daggett Solar 3 Agreement (RLA007/Coolwater Radial Lines) TOT810/RS No. 530 to be effective 12/8/2022.

Filed Date: 12/7/22.

Accession Number: 20221207-5066.

Comment Date: 5 p.m. ET 12/28/22.

Docket Numbers: ER23-571-000.

Applicants: Southern California Edison Company.

Description: § 205(d) Rate Filing: Daggett Solar 2 Agreement (RLA006/Coolwater Radial Lines) TOT811/RS No. 529 to be effective 1/29/2023.

Filed Date: 12/7/22.

Accession Number: 20221207-5070.

Comment Date: 5 p.m. ET 12/28/22.

Docket Numbers: ER23-572-000.

Applicants: Midcontinent Independent System Operator, Inc.

Description: § 205(d) Rate Filing: 2022-12-07 Attachment X_Cure Period Harmonization to be effective 2/6/2023.

Filed Date: 12/7/22.

Accession Number: 20221207-5088.

Comment Date: 5 p.m. ET 12/28/22.

Docket Numbers: ER23-573-000.

Applicants: PJM Interconnection, L.L.C.

Description: § 205(d) Rate Filing: Original ISA, SA No. 6704; Queue No. AF1-093 to be effective 11/9/2022.

Filed Date: 12/7/22.

Accession Number: 20221207-5111.

Comment Date: 5 p.m. ET 12/28/22.

Take notice that the Commission received the following foreign utility company status filings:

Docket Numbers: FC23-2-000.

Applicants: Enbridge Inc.

Description: Enbridge Inc. submits Notice of Self-Certification of Foreign Utility Company Status.

Filed Date: 12/7/22.

Accession Number: 20221207-5028.

Comment Date: 5 p.m. ET 12/28/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2022.
Kimberly D. Bose,
Secretary.

[FR Doc. 2022-26993 Filed 12-12-22; 8:45 am]

BILLING CODE 6717-01-P